DEPARTMENT OF ENERGY

Federal Energy Regulatory Commission

Notice of Application Accepted for Filing and Soliciting Motions To Intervene, Protests, and Comments

January 12, 2007.

Take notice that the following hydroelectric application has been filed with the Commission and is available for public inspection:

a. Type of Application: Preliminary Permit.

b. Project No.: 12743-000.

c. Date filed: September 20, 2006.

d. Applicant: Douglas County, Oregon.

e. Name of Project: Douglas County Wave and Tidal Energy Project.

f. Location: The project would be located in the Pacific Ocean in Douglas County, Oregon.

g. Filed Pursuant to: Federal Power Act, 16 U.S.C. 791(a)-825(r).

h. Applicant Contacts: Mr. Ronald S. Yocum, Douglas County, Oregon, 430 SE Main Street, P.O. Box 2456, Roseburg, OR 97470, phone: (541) 957-5900.

i. FERC Contact: Robert Bell, (202) 502-6062.

j. Deadline for filing comments, protests, and motions to intervene: 60 days from the issuance date of this notice.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

k. Description of Project: Oregon's offshore conditions present the most optimal wave environment for extracting potential useful energy according to the Electrical Power Research Institute (EPRI). The wave energy project would be bounded on the north and south by a 3-mile-long line, on the east by the shoreline defined by the border of Douglas County, and on the west by a parallel line 3 miles offshore. Within this area Douglas County together with the Central Lincoln People's Utility District (CLPUD), has identified potential interconnections between the existing CLPUD near shore substations on the power distribution grid and possible “wave energy park” locations off the coast of Lincoln County. A Bonneville Power Administration (BPA) can distribute power beyond the county on the electrical grid. Douglas County's project will comply with all interconnection requirements as specified by CLPUD and BPA. In addition, there are potentially other connections including utilizing an existing outfall for a major power user and possible interconnections with Pacific Power in the northern portion of Douglas County.

Such wave parks have the potential of generating from 20 to 180 megawatts (MW) of power or more. Multiple sites would be beneficial to the immediate area and to the Pacific Northwest in supplementing the region's hydropower capacity and in providing generation to the west of the Cascade Mountain Range, thereby easing congestion on the east-west transmission grid in region. While recognizing that wave energy will be an intermittent energy source, and mindful of integration needs, waves are far less intermittent than wind energy and are predictable many hours ahead of their occurrence.

Douglas County will examine all the available wave power technologies for each location within the project boundary. All the alternative Wave and Tidal Energy Conversion devices capable of generating commercially viable energy will be explored.

Douglas County will seek investment of available economic development dollars to locate businesses to both support wave parks off our county shores and to create and test new technologies. The Port of Umpqua has dock and facilities to support vessels servicing the wave and tidal parks. Adequate industrial lands adjacent to those terminals, with full infrastructure improvements including water, sewer, and highways, are available to develop local wave park technology, manufacturing, maintenance and repair businesses. Oregon State University, which has launched an initiative to create the U.S. Ocean Wave Energy Research, Development and Demonstration Center, maintains the Hatfield Marine Science Center on Yaquina Bay in Newport, which could become a primary center for creating and field testing new wave power technologies.

This project has amended its project boundary so that it does not compete with the Reedsport OPT Wave Park Project No. 12713-000.

The project is estimated to have an annual generation of 87.5 to 790 gigawatt-hours.

l. Locations of Applications: A copy of the application is available for inspection and reproduction at the Commission in the Public Reference Room, located at 888 First Street NE., Room 2A, Washington, DC 20426, or by calling (202) 502-8371. This filing may also be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the address in item h above.

m. Individuals desiring to be included on the Commission's mailing list should so indicate by writing to the Secretary of the Commission.

n. Competing Preliminary Permit: Anyone desiring to file a competing application for preliminary permit for a proposed project must submit the competing application itself, or a notice of intent to file such an application, to the Commission on or before the specified comment date for the particular application (see 18 CFR 4.36). Submission of a timely notice of intent allows an interested person to file the competing preliminary permit application no later than 30 days after the specified comment date for the particular application. A competing preliminary permit application must conform with 18 CFR 4.30(b) and 4.36.

o. Competing Development Application: Any qualified development applicant desiring to file a competing development application must submit to the Commission, on or before a specified comment date for the particular application, either a competing development application or a notice of intent to file such an application. Submission of a timely notice of intent to file a development application allows an interested person to file the competing application no later than 120 days after the specified comment date for the particular application. A competing license application must conform with 18 CFR 4.30(b) and 4.36.

p. Notice of Intent: A notice of intent must specify the exact name, business address, and telephone number of the prospective applicant, and must include an unequivocal statement of intent to submit, if such an application may be filed, either a preliminary permit application or a development application (specify which type of application). A notice of intent must be served on the applicant(s) named in this public notice.

q. Proposed Scope of Studies under Permit: A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

r. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Comments, protests and interventions may be filed electronically via the Internet in lieu of paper; See 18 CFR 385.2001 (a)(1)(iii) and the instructions on the Commission's Web site under “e-filing” link. The Commission strongly encourages electronic filing.

s. Filing and Service of Responsive Documents: Any filings must bear in all capital letters the title “COMMENTS”, “RECOMMENDATIONS FOR TERMS AND CONDITIONS”, “PROTEST”,“COMPETING APPLICATION” OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

t. Agency Comments: Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E7-789 Filed 1-19-07; 8:45 am]

BILLING CODE 6717-01-P